DEPARTMENT OF DEFENSE
Department of the Navy
Public Hearings for the Draft Environmental Impact Statement for Purchase of Land for a Naval Special Operations Forces Training Range, Hancock County, MS

AGENCY:
Department of the Navy, DOD.

ACTION:
Notice.

SUMMARY:

Pursuant to Section (102)(2) of the National Environmental Policy Act of 1969, and the regulations implemented by the Council on Environmental Quality (40 CFR Parts 1500-1508), the Department of the Navy (Navy) has prepared and filed with the U.S. Environmental Protection Agency (EPA) a Draft Environmental Impact Statement (DEIS) on January 30, 2004, to evaluate the potential environmental consequences of purchasing 5,200 acres inside the northwestern acoustic buffer zone at the National Aeronautical and Space Administration's John C. Stennis Space Center (Stennis Space Center) in Hancock County, MS. The acquired acreage would be used as a Naval Special Operations Forces Training Range where exercises using Short Range Training Ammunition (SRTA) could be conducted. The Navy will conduct two public hearings to receive oral and written comments on the DEIS. Federal, state, and local agencies and interested individuals are invited to be present or represented at the public hearings. Navy representatives will be available to clarify information related to the DEIS. This notice announces the dates and locations of the public hearings for this DEIS.

DATES AND ADDRESSES:
Two public hearings will be held. The first public hearing will be on Tuesday, February 17, 2004, from 7 p.m. to 9 p.m. at Hancock County Court House, 150 Main St, Bay St. Louis, MS. The second hearing will be on Wednesday, February 18, 2004, from 7 p.m. to 9 p.m. at Slidell City Auditorium, 2055 2ND St, Slidell, LA.

FOR FURTHER INFORMATION CONTACT:

Mr. Richard Davis, Southern Div., Naval Facilities Engineering Command, P.O. Box 190010, North Charleston, SC 29419-9010. Telephone (843) 820-5589, facsimile (843) 820-7472, or E-mail: richard.a.davis1@navy.mil.

SUPPLEMENTARY INFORMATION:

A Notice of Intent to prepare this DEIS was published in the Federal Register, 68 FR 9998, March 3, 2003. Public scoping meetings were held on March 18, 2003, at the Hancock High School, Kiln, MS and on March 20, 2003, at the Slidell City Auditorium, Slidell, LA.
The proposed action is to purchase 5,200 acres of real estate to establish a riverine and jungle training range for Naval Special Operations Forces where short range training ammunition (SRTA) up to .50 caliber can be conducted. SRTA is a plastic, non-lead, non-explosive projectile with a limited flight profile.
Naval Special Operations Forces would conduct water-to-land SRTA fire training from the East Pearl River into the range and land-to-land SRTA fire would be conducted wholly inside the range perimeter. The following training activities would also occur within the range perimeter: land patrolling and reconnaissance by foot and passenger vehicles; equipment testing and evaluation; immediate action drills; communications drills; use of maritime unmanned aerial vehicles, unmanned riverine observation craft, and High Mobility Multi-purpose Wheeled Vehicles; and insertions and extractions via helicopter. The establishment of an interior range perimeter safety buffer and “no-fire” sectors along the East Pearl and Mikes Rivers would preclude impacts on adjacent land and water areas outside the range.
Alternatives considered in the DEIS include various sites in the vicinity of the Stennis Space Center. The preferred locational alternative is Alternative Range Location 3—Establishment of training areas along reaches of the East Pearl River and Mikes River. In addition, the DEIS evaluates three training alternatives that address the type and tempo of activities to be conducted on the range. Implementation of the proposed action is not expected to result in any significant short or long term impacts on physical, biological, or socioeconomic resources.
The DEIS has been distributed to various Federal, state, and local agencies, elected officials, and interested parties, and is available for public review at the following libraries: Hancock Public Library, Bay St. Louis Branch, 312 Hwy 90, Bay St. Louis, MS; and St. Tammany Parish Library, Slidell Branch, 555 Robert Blvd, Slidell, LA.
Oral statements presented at the public hearing will be heard and transcribed by a stenographer; however, to ensure the accuracy of the record, all statements should be submitted in writing. All statements, both oral and written, will become part of the public record on the DEIS and will be responded to in the Final Environmental Impact Statement (FEIS). Equal weight will be given to both oral and written statements.
In the interest of available time and to ensure that all who wish to give an oral statement have the opportunity to do so, each speaker's comments will be limited to three (3) minutes. If a longer statement is to be presented, it should be summarized at the public hearing and the full text submitted in writing either at the hearing or faxed or mailed to: SBT-22 Range EIS, c/o Commanding Officer, Southern Division, Naval Facilities Engineering Command, P.O. Box 190010, North Charleston, SC 29419-9010, Attn: Code ES12/RD (Richard A. Davis), telephone (843) 820-5589 or facsimile (843) 820-7472. All written comments postmarked by March 15, 2004, will become part of the official public record and will be responded to in the FEIS.

Dated: January 27, 2004.
J. T. Baltimore,
Lieutenant Commander, Judge Advocate General's Corps, U.S. Navy, Alternate Federal Register Liaison Officer.

[FR Doc. 04-1951 Filed 1-29-04; 8:45 am]
BILLING CODE 3810-FF-P